FEDERAL COMMUNICATIONS COMMISSION

Notice of Public Information Collection(s) Being Reviewed by the Federal Communications Commission for Extension Under Delegated Authority, Comments Requested

September 15, 2009.

SUMMARY: The Federal Communications Commission, as part of its continuing effort to reduce paperwork burden invites the general public and other Federal agencies to take this opportunity to comment on the following information collection(s), as required by the Paperwork Reduction Act of 1995, 44 U.S.C. 3501—3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments November 27, 2009. If you anticipate that you will be submitting comments, but find it difficult to do so within the period of time allowed by this notice, you should advise the contact listed below as soon as possible.

ADDRESSES: Direct all PRA comments to Nicholas A. Fraser, Office of Management and Budget (OMB), via fax at 202-395-5167, or via the Internet at Nicholas_A._Fraser@omb.eop.gov and to Judith-B.Herman@fcc.gov, Federal Communications Commission (FCC). To submit your comments by e-mail send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith B. Herman at 202-418-0214.

SUPPLEMENTARY INFORMATION:

OMB Control Number: 3060-0773.

Title: Section 2.803, Marketing of RF Devices Prior to Equipment Authorization.

Form No.: N/A.

Type of Review: Extension of a currently approved collection.

Respondents: Business or other for-profit.

Number of Respondents: 6,000 respondents; 6,000 responses.

Estimated Time Per Response: .5 hours.

Frequency of Response: One time reporting requirement and third party disclosure requirement.

Obligation to Respond: Required to obtain or retain benefits. Statutory authority for this information collection is contained in 47 U.S.C. 154(i), 302, 303, 303(r), and 307.

Total Annual Burden: 3,000 hours.

Total Annual Cost: N/A.

Privacy Act Impact Assessment: N/A.

Nature and Extent of Confidentiality: There is no need for confidentiality.

Needs and Uses: The Commission will submit this information collection to the Office of Management and Budget (OMB) after this 60 day comment period in order to obtain the full three year clearance from them. The Commission is requesting an extension (no change in the reporting and/or third party disclosure requirements) of this information collection. The Commission is reporting no change in their burden estimates.

The Commission has established rules for the marketing and authorization of radio frequency (RF) devices under guidelines in 47 CFR Part 2, Section 2.803. The general guidelines in Section 2.803 prohibit the marketing or sale of such equipment prior to a demonstration of compliance with the applicable equipment authorization and technical requirements in the case of a device subject to verification or Declaration of Conformity.

The following general guidelines apply for third party notifications:

(a) A RF device may be advertised and displayed at a trade show or exhibition prior to a demonstration of compliance with the applicable technical standards and compliance with the applicable equipment authorization procedure provided the advertising and display is accompanied by a conspicuous notice specified in Section 2.803(c).

(b) An offer for sale solely to business, commercial, industrial, scientific, or medical users of an RF device in the conceptual, developmental, design or pre-production stage prior to demonstration of compliance with the equipment authorization regulations may be permitted provided that the prospective buyer is advised in writing at the time of the offer for sale that the equipment is subject to FCC rules and that the equipment will comply with the appropriate rules before delivery to the buyer or centers of distribution.

(c) There are no FCC requirements for how this notice of compliance is to be phrased.

The information to be disclosed about marketing of the RF device is intended:

(a) To ensure the compliance of the proposed equipment with Commission rules; and

(b) To assist industry efforts to introduce new products to the marketplace more promptly.

The information disclosure applies to a variety of RF devices that:

(a) Is pending equipment authorization or verification of compliance;

(b) May be manufactured in the future; and

(c) Operates under varying technical standards.

The information disclosed is essential to ensuring that interference to radio communications is controlled.

OMB Control Number: 3060-0782.

Title: Petition for Limited Modification of LATA Boundaries to Provide Expanded Local Calling Service (ELCS) at Various Locations.

Form No.: N/A.

Type of Review: Extension of a currently approved collection.

Respondents: Business or other for-profit.

Number of Respondents: 20 respondent; 100 responses.

Estimated Time Per Response: 8 hours (5 times/year).

Frequency of Response: On occasion reporting requirement.

Obligation to Respond: Voluntary. Statutory authority for this information collection is required by Section 3(25) of the Communications Act of 1934, as amended; and 47 U.S.C. sections 153, 154(i), and 271.

Total Annual Burden: 800 hours.

Total Annual Cost: N/A.

Privacy Act Impact Assessment: N/A.

Nature and Extent of Confidentiality: The Commission is not requesting that respondents submit confidential information. The information submitted to the Commission is available for public inspection; no assurance of confidentiality has been given regarding the information.

Needs and Uses: The Commission will submit this information collection to the Office of Management and Budget (OMB) after this 60 day comment period in order to obtain the full three year clearance from them. The Commission is requesting an extension (no change in the reporting requirement) of this information collection. The Commission is reporting no change in their burden estimates.

In a 1997 Memorandum Opinion and Order, the Commission requested that Bell Operating Companies (BOCs) provide certain information to the Commission regarding BOC requests for limited modification of local access and transport area (LATA) boundaries to provide local calling services (ELCS).

Section 271 of the Communications Act of 1934 (`the Act'), as amended, prohibits a BOC from providing “interLATA services originating in any of its `in-region' States” until the BOC takes certain steps to open its own market to competition and the Commission approves the BOC's application to provide such service. Moreover, Section 10(d) prohibits the Commission from forbearing from applying the requirements of Section 271. However Section 3(25) of the Act provides that a BOC may modify LATA boundaries, if such modifications are approved by the Commission. Thus, for a BOC to provide service on a new ELCS route that crosses existing LATA boundaries, the Act requires that the BOC either modify the LATA so that the route no longer crosses a LATA boundary or satisfy the requirements of Section 271. Although the BOCs have otherwise satisfied the criteria for Section 271, this collection remains relevant in order to ensure that they fulfill their obligations under the Act and Commission policies and rules regarding BOC provision of InterLATA services.

The Commission had found that LATA modification for the “limited purpose” of authorizing a BOC to provide flat-rate, non-optional local calling service between specific exchanges will meet community needs for traditional local telephone service while reducing the potential anticompetitive effects of general LATA modifications.

The guidelines ask that each ECLS request include the following information:

(1) Type of proposed service; (2) direction of proposed service; (3) telephone exchanges involved; (4) names of affected customers; (5) state commission approval; (6) number of access lines for customers; (7) usage data; (8) poll results; if any; (9) community of interest statement; (10) a map showing exchanges and LATA boundary involved; and (11) any other pertinent information.

A carrier will be deemed to have made a prima facie case supporting grant of the proposed modification if the petition: (1) Has been approved by the state commission; (2) that the state commission found a sufficient community interest to warrant such service; (4) documents this community of interest through such evidence as poll results, usage data, and descriptions of the communities involved; and (5) involves a limited number of customers or access lines. The guidelines will enable the Commission to ensure that BOCs are incompliance with the Act and Commission policies and rules regarding BOC provision of InterLATA services. The requested information is used by the Commission to determine whether the need for the proposed ELCS routes outweigh the risk of potential anticompetitive effects, and thus whether requests for limited modifications of LATA boundaries should be granted.

Federal Communications Commission.
Marlene H. Dortch,
Secretary.

[FR Doc. E9-23332 Filed 9-25-09; 8:45 am]

BILLING CODE 6712-01-P